FEDERAL RETIREMENT THRIFT INVESTMENT BOARD

Notice of Board Meeting

DATES: May 23, 2023 at 10 a.m.

ADDRESSES: Telephonic. Dial-in (listen only) information: Number: 1-202-599-1426, Code: 118 124 777#; or via web: https://teams.microsoft.com/l/meetup-join/19%3ameeting_ZjQ4ZjhiNmEtN2FhNC00OTJjLWIwNDItNTA0NzA5ZGEyODA3%40thread.v2/0?context=%7b%22Tid%22%3a%223f6323b7-e3fd-4f35-b43d-1a7afae5910d%22%2c%22Oid%22%3a%221a441fb8-5318-4ad0-995b-f28a737f4128%22%7d.

FOR FURTHER INFORMATION CONTACT: Kimberly Weaver, Director, Office of External Affairs, (202) 942-1640.

SUPPLEMENTARY INFORMATION:

Board Meeting Agenda

Open Session

1. Approval of the April 25, 2023 Board Meeting Minutes

2. Monthly Reports

(a) Participant Activity Report

(b) Legislative Report

(c) Investment Report

3. Quarterly Reports

(d) Metrics

4. OPE Annual Presentation

Authority: 5 U.S.C. 552b(e)(1).

Dated: May 10, 2023.
Dharmesh Vashee,
General Counsel, Federal Retirement Thrift Investment Board.

[FR Doc. 2023-10335 Filed 5-12-23; 8:45 am]

BILLING CODE P